SECURITIES AND EXCHANGE COMMISSION

Sunshine Act Meeting

Federal Register Citation of Previous Announcement: [66 FR 58543, November 21, 2001]

STATUS: Open/Closed Meetings.

PLACE: 450 Fifth Street, NW., Washington, DC.

DATE AND TIME OF PREVIOUSLY ANNOUNCED MEETING: Thursday, November 29, 2001, at 10 a.m.

CHANGE: Additional Meeting and Time Change.

An open meeting will be held on Thursday, November 29, 2001 at 10 a.m.

The closed meeting scheduled for Thursday, November 29, 2001 at 10 a.m., will follow the 10 a.m. open meeting.

The subject matter of the open meeting scheduled for Thursday, November 29, 2001, at 10 a.m., will be:

The Commission will consider whether to extend a stay relating to the application of certain requirements contained in Regulation ATS under the Securities Exchange Act of 1934 to alternative trading systems that facilitate trading in investment grade and non-investment grade corporate debt securities. Those requirements relate to fair access and systems capacity, security, and integrity. The current stay of those requirements expires on December 1, 2001.

For further information contact: Gordon Fuller, Counsel to the Assistant Director, at (202) 942-0792, Office of Market Supervision, Division of Market Regulation.

At times, changes in Commission priorities require alterations in the scheduling of meeting items. For further information and to ascertain what, if any, matters have been added, deleted or postponed, please contact:

The Office of the Secretary at (202) 942-7070.

Dated: November 21, 2001.
Margaret H. McFarland,
Deputy Secretary.

[FR Doc. 01-29514 Filed 11-21-01; 4:06 pm]

BILLING CODE 8010-01-M